DEPARTMENT OF THE TREASURY

Bureau of the Fiscal Service

Privacy Act of 1974; Matching Program

AGENCY: Bureau of the Fiscal Service, Department of the Treasury.

ACTION: Notice of a new matching program.

SUMMARY: Pursuant to section 552a(e)(12) of the Privacy Act of 1974, as amended, the Office of Management and Budget (OMB) Guidelines on the Conduct of Matching Programs, and the Payment Integrity Information Act of 2019, notice is hereby given of the conduct of the a Computer Matching Program pertaining to the Do Not Pay Working System's support of the Small Business Administration's (SBA) COVID-19 response programs, including the Paycheck Protection Program, Economic Injury Disaster Loan (EIDL) program, Targeted EIDL Advances, and the Shuttered Venue Operators Grant (SVOG) Program (collectively the “SBA Programs”). This matching program will provide SBA with information that will help it identify potentially improper payments in the SBA Programs.

DATES: Comments on this matching notice must be received no later than 30 days after date of publication in the Federal Register. If no public comments are received during the period allowed for comment, the matching program will be effective April 19, 2021, provided it is a minimum of 30 days after the publication date.

Beginning date: The matches are conducted on an ongoing basis, beginning no earlier than the matching program effective date above.

ADDRESSES: David J. Ambrose, Chief Security Officer/Chief Privacy Officer, Bureau of the Fiscal Service, 3201 Pennsy Drive, Warehouse “E”, Landover, MD 20785.

FOR FURTHER INFORMATION CONTACT: David J. Ambrose, Chief Security Officer/Chief Privacy Officer, Bureau of the Fiscal Service, 202-874-6488.

SUPPLEMENTARY INFORMATION: The Computer Matching and Privacy Protection Act of 1988 (Pub. L. 101-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals. Moreover, the Payment Integrity Information Act of 2019, (31 U.S.C. 3351 et seq.) (PIIA), provides the head of the agency operating the Do Not Pay Working System with the authority to waive the requirements in 5 U.S.C. 552a(o), after consultation with the Office of Management and Budget, for matching programs conducted under the Do Not Pay Initiative (31 U.S.C. 3354). This Notice provides the public with information regarding a matching program pertaining to the Do Not Pay Working System's support of SBA Programs that has been granted a waiver, pursuant to PIIA, from the Matching Agreement requirements in the Privacy Act.

Participating Agencies

Name of Recipient Agency: Bureau of the Fiscal Service, U.S. Department of the Treasury. The SBA is the only other federal agency expected to participate in this matching program.

Authority for Conducting the Matching Program

In accordance with 31 U.S.C. 3354, executive agencies are required to “review prepayment and preaward procedures and ensure that a thorough review of available databases with relevant information on eligibility occurs to determine program or award eligibility and prevent improper payments before the release of any Federal funds.” 31 U.S.C. 3354(a)(1).

Purpose(s)

The purpose of this program is to assist SBA in the identification of potentially improper payments. Information is disclosed pursuant to this matching program only for the purpose of, and to the extent necessary in, assisting SBA in its determination with respect to an applicant for assistance under the SBA Programs.

Categories of Individuals

Individuals applying for or receiving benefits under the SBA Programs.

Categories of Records

The source agency, SBA, will furnish information to the Do Not Pay Working System regarding SBA Program applicants or benefit recipients. The requests from the SBA may include: The applicant or benefit recipient's name (which may include their individual name and/or trading names, if applicable), Taxpayer Identification Number (TIN), type of TIN, DUNS number, address, date of birth, sex, telephone number(s), email address(es), payment information, associated banking information, and associated payment/transaction information. Fiscal Service will provide a response record for each individual identified by the source agency. When there is a match between a record provided by the source agency and one or more of the databases contained in the Do Not Pay Working System, the Do Not Pay Working System will disclose to the source agency the presence of a potentially matching record in the Do Not Pay Working System and the database(s) that contain the potentially matching record(s).

System(s) of Records

SBA's records are contained in SBA system of records 21 (Loan System). Fiscal Service's records are contained in Fiscal Service system of records Treasury/Fiscal Service .017—Do Not Pay Payment Verification Records, which was last published at 85 FR 11776 (Feb. 27, 2020).

Ryan Law,
Deputy Assistant Secretary for Privacy, Transparency, and Records.

[FR Doc. 2021-05254 Filed 3-17-21; 8:45 am]

BILLING CODE P